SOCIAL SECURITY ADMINISTRATION

[Docket No: SSA-2025-0029]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, (SSA) Social Security Administration, OLCA, Attn: Reports Clearance Director, Mail Stop 3253, Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0029] in your submitted response.

I. The information collections below are pending at SSA. SSA will submit them to OMB within 60 days from the date of this notice. To be sure we consider your comments, we must receive them no later than July 21, 2025. Individuals can obtain copies of the collection instrument by writing to the above email address.

1. Consent for Release of Information and Consent for Disclosure of Records Protected Under the Privacy Act (Privacy and Disclosure of Official Records and Information and Availability of Information and Records to the Public)—20 CFR 401.40(b)&(c), 401.45, 401.55(b), 401.65(a), 401.100; 20 CFR 401.130; and 20 CFR 402-0960-0566.

Within the Privacy and Disclosure of Official Records and Information regulations, SSA has established methods through which the public can provide consent for release of records under the Privacy Act of 1974. The public can also request records accessible through the Freedom of Information Act (FOIA). We collect the necessary information for these requests through written correspondence, including the Form SSA-3288; other writings, including non-SSA forms often used by large employers, that incorporate SSA's consent requirements; or the Form SSA-3288-OP1 via a webform application linked on SSA's Privacy Program website. The Form SSA-3288-OP1 allows an individual to consent to and authorize SSA to disclose specific types of records that an individual can alternatively request through other writings and written correspondence; however, an individual can consent to and authorize SSA to disclose a broader range of types of records when using other writings and written correspondence (other than Form SSA-3288-OP1).

Consent for Release of Records

SSA obtains the required consent(s) (with certain exceptions specified by law) from anyone requesting information in SSA systems of records about another individual. We will not release information requested about an individual until we obtain the required consent from that individual. Under the Privacy Act of 1974 (5 U.S.C. 552a (b)), individuals may give SSA written consent to disclose their personal information to a third party of their choosing. In addition, individuals may have multiple needs for the disclosure of their personal information, such as for qualification for a mortgage or preemployment screenings. SSA uses the following forms for obtaining required consent:

(a) Form SSA-3288 (Consent for Release of Information): Form SSA-3288 is SSA's preferred paper form for requests for disclosure of information based on the consent of the subject of record. Respondents can download the SSA-3288 from www.ssa.gov/forms, obtain a copy at a local SSA field office, or request SSA mail a copy to them directly. Use of this form ensures compliance with SSA consent regulations at 20 CFR 401.100. SSA also collects consent on other writings, including non-SSA forms which large employers often use, that incorporate SSA's consent requirements.

(b) Form SSA-3288-OP1 (Consent for Disclosure of Records Protected Under the Privacy Act): Form SSA-3288-OP1 complies with the CASES Act, OMB M-21-04, and SSA consent regulations at 20 CFR 401.100. The CASES Act directed OMB to develop templates for, among other things, electronic consents for SSA to disclose records protected by the Privacy Act of 1974 to third parties. OMB implemented that statutory directive in M-21-04. SSA developed the SSA-3288-OP1 pursuant to the CASES Act and M-21-04. The public can access the webform application that populates Form SSA-3288-OP1 online by selecting the “Submit an Electronic Consent to Disclose Records” link found at www.ssa.gov/privacy. The public can also find the “Submit an Electronic Consent to Disclose Records” page with the link to the SSA-3288-OP1 by typing in relevant search terms at www.ssa.gov.

The respondents are individuals consenting to, authorizing, and requesting SSA disclosure of their records protected by the Privacy Act of 1974 to third parties.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) **
a. Amendment of Records | 100 | 1 | 10 | 17 | * $32.66 | ** 23 | *** $1,796
b. Consent for Release of Information (SSA-3288) + | 440,374 | 1 | 5 | 36,698 | * 32.66 | ** 23 | *** 6,711,891
c. Consent for Release of Records (Electronic SSA-3288-OP1) + | 1,152 | 1 | 10 | 192 | * 32.66 |  | *** 6,271
Totals | 441,626 |  |  | 36,907 |  |  | *** 6,719,958
+ The number of respondents for this modality is based on SSA's analytics data for the number of SSA-3288 and SSA-3288-OP1 forms submitted to SSA in fiscal year (FY) 2024.
* We based this figure on average U.S. worker's hourly wages, as reported by Bureau of Labor Statistics data (Occupational Employment and Wage Statistics).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

2. Enterprise Scheduling System (ESS)—0960-0828.

The Enterprise Scheduling System (ESS) allows for both customer self-scheduling and technician-assisted scheduling through an electronic scheduling tool. The first ESS release specifically allowed self-scheduling for enumeration services. However, we are now extending its current functionality, enabling customers and technicians to: schedule, reschedule, or cancel enumeration appointments for new or replacement Social Security cards; and complete Post-Entitlement (PE) actions, such as changing a Representative Payee, processing non-receipt of payment, updating an SSI record, or submitting evidence. In addition, ESS will allow technicians the ability to schedule, reschedule or cancel PE appointments on behalf of customers.

Customers use ESS to schedule an appointment to obtain a new SSN or a replacement Social Security card or for assistance with a PE action. ESS offers customers the following services:

• Appointment scheduling.

• Electronic communication.

• Workload evaluation/planning/management.

• Research.

• Regulatory Mandated/Compliance.

• General purpose statistics.

ESS facilitates both customer self-scheduling and technician scheduling, allowing SSA to collect essential information from customers, including their name, Social Security number, zip code, telephone number, and email address. Additionally, customers have the option to consent to electronic messaging or to opt out, as well as specify their preferred method of communication (email or text), language preference, preferred service office, and appointment day and time preferences. SSA uses this information to schedule in-office, phone, or video appointments for processing enumeration and PE actions. Customers scheduling their PE appointments through a technician have the option to create a one-time passcode, enabling them to securely update their appointment online. The technician will document this one-time passcode along with the customer's other appointment preferences.

Customers begin the process by accessing SSA.gov and engaging an online questionnaire to determine the nature of their business. If applications are available for customers to self-serve, the system routes them to those applications to complete their business. If not, customers are given the option to self-schedule an appointment through ESS. If the customer moves forward, the system directs them to create a credential using Login.gov or ID.me. Once they complete credentialing, customers access ESS to complete required screens and fields to select a date and time for an appointment with an SSA field office (FO) to provide the proofs necessary to obtain a replacement or original SSN card or complete a PE action. Upon completing the required screens and fields, the system presents customers with a screen to review and submit all of the data they input regarding the requested appointment. If the customer enters everything accurately, the system allows the customer to confirm their information and schedules their appointment.

If customers encounter issues with ESS, they may contact SSA by phone to have an FO or Telephone Service Center technician schedule their appointment. Technicians follow existing processes and policies to identify the caller as a legitimate customer, and converse with the customer to determine the nature of their business and if they require an appointment. If the technician determines the customer needs an appointment, the technician accesses ESS and completes the required screens and fields for the enumeration or PE appointment. Once the technician completes the ESS screens, the technician can review all of the information the customer provided with the customer. If the customer indicates it is correct the technician submits and schedules the appointment.

We conduct this information collection each time a customer accesses the online tool or contacts SSA by phone to schedule an appointment. The respondents are individuals looking to schedule their own SSA visit using ESS.

Type of Request: Revision of an OMB-approved information collection.

Modality of completion | Number of respondents | Frequency of response | Average burden per response (minutes) | Estimated total annual burden (hours) | Average theoretical hourly cost amount (dollars) * | Average wait time for teleservice center (minutes) ** | Total annual opportunity cost (dollars) **
ESS—Internet | 3,000,000 | 1 | 5 | 250,000 | * $22.98 |  | *** $5,745,000
ESS—Technician | 150,000 | 1 | 3 | 7,500 | * 22.98 | ** 22 | *** 1,436,250
Totals | 3,150,000 |  |  | 257,500 |  |  | *** 7,181,250
* We based this figure by averaging both the average DI payments based on SSA's current FY 2025 data (https://www.ssa.gov/legislation/2024FactSheet.pdf), and the average U.S. worker's hourly wages, as reported by Bureau of Labor Statistics data (Occupational Employment and Wage Statistics).
** We based this figure by averaging the average FY 2025 wait times for field offices and teleservice centers, based on SSA's current management information data.
*** This figure does not represent actual costs that SSA is imposing on recipients of Social Security payments to complete this application; rather, these are theoretical opportunity costs for the additional time respondents will spend to complete the application. There is no actual charge to respondents to complete the application.

II. SSA submitted the information collection below to OMB for clearance. Your comments regarding this information collection would be most useful if OMB and SSA receive them 30 days from the date of this publication. To be sure we consider your comments, we must receive them no later than June 20, 2025. Individuals can obtain copies of this OMB clearance package by writing to the OR.Reports.Clearance@ssa.gov.

Supplemental Security Income (SSI)—Quality Review Case Analysis—0960-0133.

To assess the SSI program and ensure the accuracy of its payments, SSA conducts legally mandated periodic SSI case analysis quality reviews. SSA uses Form SSA-8508-BK to conduct these reviews, collecting information on operating efficiency; the quality of underlying policies; and the effect of incorrect payments. SSA also uses the data to determine SSI program payment accuracy rates, which are a service delivery goals. SSA selects a stratified random sample of recipients each month who received payments during the sample period to conduct these reviews. The SSA reviewer then reviews the selected case files prior to preparing an initial letter contacting the respondent to set up an interview. The initial letter informs the respondent of the review and includes a checklist with any requested documentation for the phone-based interview. During the interview, the SSA reviewer redevelops and verifies all non-medical factors of eligibility and payment amount, asks the sampled individuals questions related to the status of eligibility factors during the review period, then requests the respondent mail in any necessary documentation (listed on the initial letter). During the interview, the SSA reviewer documents responses on the electronic SSA-8508-BK (or e8508), a stand-alone Excel application that resides in the reviewer's government-issued personal computer. If the system is not accessible for some reason, the reviewer uses the paper SSA-8508-BK instead. The respondents are recipients of SSI payments selected for the quality reviews

Type of Request: Revision of an OMB-approved information collection.

Modality of completion | Number of respondents | Frequency of response | Average burden per response (minutes) | Estimated total annual burden (hours) | Average theoretical hourly cost amount (dollars) * | Total annual opportunity cost (dollars) **
SSA-8508-BK (paper interview) | 215 | 1 | 60 | 215 | * $13.30 | ** $2,860
e8508 (electronic interview) | 4,085 | 1 | 60 | 4,085 | * 13.30 | ** 54,331
Totals | 4,300 |  |  | 4,300 |  | ** $57,191
* We based this figure on the average DI payments based on SSA's current data (https://www.ssa.gov/legislation/2024FactSheet.pdf).
*** This figure does not represent actual costs that SSA is imposing on recipients of Social Security payments to complete this application; rather, these are theoretical opportunity costs for the additional time respondents will spend to complete the application. There is no actual charge to respondents to complete the application.

Dated: May 15, 2025.
Naomi Sipple,
Reports Clearance Officer, Social Security Administration.

[FR Doc. 2025-09063 Filed 5-20-25; 8:45 am]

BILLING CODE 4191-02-P